DEPARTMENT OF COMMERCE

Foreign-Trade Zones Board

[Order No. 1451]

Grant of Authority for Subzone Status, Tiffany & Co., (Jewelry and Consumer Goods), Parsippany and Whippany, New Jersey

Pursuant to its authority under the Foreign-Trade Zones Act, of June 18, 1934, as amended (19 U.S.C. 81a-81u), the Foreign-Trade Zones Board (the Board) adopts the following Order:

Whereas, the Foreign-Trade Zones Act provides for “...the establishment... of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the New Jersey Commerce, Economic Growth & Tourism Commission, grantee of Foreign-Trade Zone 44, has made application to the Board for authority to establish special-purpose subzone at the jewelry and consumer goods distribution and packaging facility of Tiffany & Co., located in Parsippany and Whippany, New Jersey (FTZ Docket 34-2005, filed 7/19/05);

Whereas, notice inviting public comment was given in the Federal Register (70 FR 43395, 7/27/05); and,

Whereas, the Board adopts the findings and recommendations of the examiner's report, and finds that the requirements of the FTZ Act and the Board's regulations are satisfied, and that approval of the application is in the public interest;

Now, therefore, the Board hereby grants authority for subzone status for activity related to jewelry and consumer goods packaging and distribution at the facilities of Tiffany & Co., located in Parsippany and Whippany, New Jersey (Subzone 44F), as described in the application and Federal Register notice, and subject to the FTZ Act and the Board's regulations, including § 400.28

Signed at Washington, DC, this 15th day of May 2006.

David M. Spooner,
Assistant Secretary of Commerce for Import Administration, Alternate Chairman, Foreign-Trade Zones Board.
Attest:
Dennis Puccinelli,
Executive Secretary.

[FR Doc. E6-7840 Filed 5-22-06; 8:45 am]

BILLING CODE 3510-DS-S